DEPARTMENT OF AGRICULTURE

Forest Service

Revision of Land Management Plan for the George Washington National Forest, Virginia and West Virginia

AGENCY: Forest Service USDA.

ACTION: Notice of initiation to revise the George Washington National Forest Land Management Plan.

SUMMARY: The Forest Service is revising the Land Management Plan (hereafter referred to as Forest Plan) for the George Washington National Forest (GWNF). The notice provides:

1. A summary of the need to change the Forest Plan;

2. An estimated schedule for the planning process;

3. A list of documents available for review and how to get them;

4. How the public can participate in the planning process;

5. How the public can comment on the need for change;

6. Who to contact for more information.

DATES: Revision formally begins with publication of this notice in the Federal Register. A series of public meetings to discuss the need for change will begin in March, 2007. The dates, times and locations of these meetings will be posted at our internet Web site: http://www.fs.fed.us/r8/gwj/. This information can also be obtained from the contact information below. More detailed information on the proposed schedule is in the Supplementary Information Section.

ADDRESSES: Written comments on the need for change will also be accepted. Send written comments to George Washington Plan Revision, George Washington & Jefferson National Forests, 5162 Valleypointe Parkway, Roanoke, Virginia 24019-3050. Electronic comments should include “GW Plan Revision” in the subject line and sent to: comments-southern-georgewashington-jefferson@fs.fed.us

For further information, mail correspondence to George Washington Plan Revision, George Washington & Jefferson National Forests, 5162 Valleypointe Parkway, Roanoke, Virginia 24019-3050. Additional information on the GWNF Forest Plan is available at: http://www.fs.fed.us/r8/gwj/.

FOR FURTHER INFORMATION CONTACT: Dave Plunkett, Planning Team Leader, Ken Landgraf, Planning Staff Officer, or JoBeth Brown, Public Affairs Officer, George Washington & Jefferson National Forests, (540)-265-5100.

SUPPLEMENTARY INFORMATION:

The Need for Change

The GWNF Forest Plan was last revised in 1993. Planning regulations require that plans be revised at least every 15 years. the 1993 revision was a major effort that involved the participation of many stakeholders. The purpose of the current revision is to examine management direction that needs to change and determine how best to make those changes. The Forest Service has drafted a Comprehensive Evaluation Report. This report is based on monitoring information that has been collected since 1993. The report describes the current social, economic and ecological conditions and trends on the Forest. Based on this information, the Forest Service is proposing a number of changes to the current plan. The proposed changes include the following:

—Follow the 2005 Planning regulations for required components of a Forest Plan

—Change roadless area management to address current policy

—Clarify management of old growth

—Modify riparian area management

—Evaluate if additional potential wilderness areas exist

—Address the use of lightning-ignited wild fire and the level of prescribed burning

—Utilize, where appropriate, new management direction from the 2004 Jefferson Forest Plan

—Examine any needs for additional special biological areas.

Planning Schedule

After initiation of the planning process, the Forest Service will hold a series of public meetings to discuss the need for change and the Draft Comprehensive Evaluation Report. At the end of these collaborative efforts (around May 2007), the Forest Supervisor will determine which issues will be carried forward for further analysis in the revision process.

Additional public meetings will then be held through the summer of 2007 to discuss development of the Forest Plan components in response to the identified needs for change. In November of 2007 the Forest Service expects to release a Proposed Forest Plan for public review and comment. A notice will be published in the Federal Register that will begin a 90-day comment period on the Proposed Forest Plan. The Forest Service will review the comments and then make any appropriate changes to the Proposed Forest Plan. Another notice will then be published in the Federal Register to begin a 30-day objection period. This is anticipated to be published around July of 2008. After any objections are resolved, the Forest Plan will be approved by the Forest Supervisor.

Documents Available for Review

A number of documents are available for review. These are available at the Web site http://www.fs.fed.us/r8/gwi/. Additional documents will be added to this site throughout the planning process. Hard copies or CD-ROM versions of the documents can be obtained from the addresses listed above. The current documents include:

—Draft Comprehensive Evaluation Report

—Current (1993) George Washington NF Land Management Plan

—Initial Version of Proposed Forest Plan.

How the Public Can Participate in the Planning Process

The planning process will emphasize those things that need to change from the 1993 Forest Plan. The focus of the current planning regulations is on establishing a collaborative approach to planning. Therefore, the best opportunity for dialogue is to participate in the discussions at the various public meetings to be held throughout the process. These meetings will all be announced on the GWNF Web site. In addition, there will be opportunities to provide written comments on draft documents and analyses as they are prepared. A formal comment opportunity will be provided when the Proposed Forest Plan is completed.

Only parties that participate in the planning process through the submission of written comments can submit an objection pursuant to 36 CFR 219.13(a).

How the Public Can Comment on the Need for Change

A series of public meetings will be held beginning in March of 2007 to discuss the need for change. The dates, times and locations of these meetings are posted on the Forest Web site or can be obtained from the Contacts named above. In addition, written or electronic comments can be submitted to the previously identified addresses.

Responsible Official

The Forest Supervisor, George Washington & Jefferson National Forests, is the Responsible Official (36 CFR 219.2(b)(1)).

Authority: 36 CFR 219.9(b)(2)(i), 70 FR 1023, January 5, 2005.

Dated: February 8, 2007.
Maureen Hyzer,
Forest Supervisor.

[FR Doc. 07-693 Filed 2-14-06; 8:45 am]

BILLING CODE 3410-11-M